Proclamation 9416 of April 1, 2016

National Public Health Week, 2016

By the President of the United States of America

A Proclamation

During National Public Health Week, we join together to enhance public health—the foundation of our security and well-being—here at home and around the world. By supporting health professionals and embracing our obligations to promote public health and protect our planet, we can uphold our shared responsibility to preserve the promise of a happy and healthy life for our children and grandchildren.

Ensuring all Americans have access to quality, affordable health insurance is imperative for maintaining our public health, and I am proud that 6 years after I signed it, the Affordable Care Act has extended the peace of mind that comes with health coverage to 20 million Americans. First Lady Michelle Obama's Let's Move! initiative is encouraging more physical activity and nutritious food choices for our Nation's youth, engaging parents and kids in the work of building stronger, healthier communities. To spare more American families heartbreak, I have proposed over 1 billion dollars in new funding to address prescription opioid abuse and heroin use, a public health issue that has taken a devastating toll on too many. We are also striving to promote mental health as an essential component of overall health, helping ensure access to mental health care and services and working to prevent suicide. And because public safety is a critical component of addressing public health, I announced new, commonsense steps this year to help address our country's epidemic of gun violence and keep our neighborhoods safe.

Just as we must sustain a healthy world today, we must do everything in our power to preserve it for those who will inherit it. Climate change has a profound impact on our public health, contributing to intensified smog, an extended allergy season, the spread of diseases into new regions, and greater and more acute incidence of asthma. Last year, the White House hosted a Summit on Climate Change and Health to expand awareness of the real threat a changing climate poses to our health and to focus on vulnerable groups who may face more serious challenges adapting to climate change. No community is immune to this reality, nor can any nation cordon itself off from climate or the air we share. That is why last year, along with nearly 200 countries from around the world, the United States negotiated the Paris Agreement—the most ambitious climate change agreement in history that commits all participating parties to putting forward climate targets of growing stringency to reduce global greenhouse gas emissions. Adopting this agreement for an international framework builds on domestic actions we have already taken to invest in clean energy, reduce our carbon emissions, and transition to a cleaner, healthier, and more sustainable future.

Like the threat of climate change, other public health challenges—like infectious diseases—cannot be addressed by any one nation alone. In an increasingly interconnected world, we face new trials that demand international attention. My Administration is working with our international partners to combat antibiotic-resistant bacteria. We also launched the Global Health Security Agenda, which aims to strengthen all countries' public health systems and stop the spread of disease outbreaks by ensuring nations from around the world have the capacity to prevent, detect, and respond to biological threats to our health and safety. Already, this cooperation is helping us confront the spread of the Zika virus.

America is built on the notion that we are our brothers' and our sisters' keepers, and that we all have certain obligations to one another. Never is that idea truer than when ensuring the health of the world our children will live in long after we are gone. This week, let us treat every child as if they are our own by accepting our responsibilities to leave them with a healthier, cleaner planet than we have, and let us continue reaching for a brighter, more secure future for all the world's people.

NOW, THEREFORE, I, BARACK OBAMA, President of the United States of America, by virtue of the authority vested in me by the Constitution and the laws of the United States, do hereby proclaim April 4 through April 10, 2016, as National Public Health Week. I call on all citizens, government agencies, private businesses, non-profit organizations, and other groups to join in activities and take action to improve the health of our Nation.

IN WITNESS WHEREOF, I have hereunto set my hand this first day of April, in the year of our Lord two thousand sixteen, and of the Independence of the United States of America the two hundred and fortieth.

[FR Doc. 2016-08082

Filed 4-5-16; 11:15 am]

Billing code 3295-F6-P